DEPARTMENT OF THE INTERIOR

Bureau of Land Management

[BLM_ID_FRN_MO 4500173375]

Filing of Plats of Survey: Idaho

AGENCY: Bureau of Land Management, Interior.

ACTION: Notice of official filing of plats of surveys.

SUMMARY: The plats of survey of the following described lands are scheduled to be officially filed in the Bureau of Land Management, Idaho State Office, Boise, Idaho, 30 days from the date of this publication. The plats were prepared to meet certain administrative needs of the Bureau of Land Management.

ADDRESSES: A copy of the plat may be obtained from the Public Room at the Bureau of Land Management, Idaho State Office, 1387 S Vinnell Way, Boise, Idaho 83709, upon required payment.

FOR FURTHER INFORMATION CONTACT: Daniel S. Young, Branch of Cadastral Survey, Bureau of Land Management, 1387 South Vinnell Way, Boise, Idaho, 83709-1657; (208) 373-3994; email: dsyoung@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION:

Boise Meridian, Idaho

T. 4 S., R. 39 E., Sections 7 and 17, accepted April 27, 2023.

T. 8 S., R. 29 E., Sections 20, 21, 29, and 34, accepted May 04, 2023.

T. 8 S., R. 30 E., Sections 20 and 30, accepted May 11, 2023.

T. 13 N., R. 19 E., Section 9, accepted May 18, 2023.

T. 9 S., R. 17 E., Section 14, accepted May 25, 2023.

T. 5 S., R. 42 E., Section 12, accepted June 01, 2023.

T. 5 S., R. 43 E., Section 7, accepted June 01, 2023.

T. 48 N., R. 3 E., Sections 11 and 12, accepted June 22, 2023.

T. 48 N., R. 2 E., Section 35, accepted July 06, 2023.

T. 3 S., R. 10 E., Section 31, accepted July 13, 2023.

T. 29 N., R. 8 E., Section 33, accepted July 20, 2023.

The plat, in one sheet, incorporating the field notes of the dependent resurvey portions of the west boundary and subdivisional lines, and the subdivision of sections 7 and 17, Township 4 South, Range 39 East, Boise Meridian, Idaho, Group Number 1492, accepted April 27, 2023.

The plat, in two sheets, incorporating the field notes of the dependent resurvey of portions of the south boundary and subdivisional lines, and the subdivision of sections 20, 21, 29, and 34, Township 8 South, Range 29 East, Boise Meridian, Idaho, Group Number 1496, accepted May 04, 2023.

The plat, in one sheet, incorporating the field notes of the dependent resurvey of portions of the west boundary and subdivisional lines, and the subdivision of sections 20 and 30, Township 8 South, Range 30 East, Boise Meridian, Idaho, Group Number 1512, accepted May 11, 2023.

The plat, in one sheet, incorporating the field notes of the dependent resurvey of a portion of the subdivisional lines, and the subdivision of section 9, and certain metes-and-bounds surveys, Township 13 North, Range 19 East, Boise Meridian, Idaho, Group Number 1441, accepted May 18, 2023.

The plat, in two sheets, of the dependent resurvey of a portion of the subdivisional lines and the subdivision of section 14, T. 9 S., R. 17 E., Boise Meridian, Idaho, Group Number 1578, accepted May 25, 2023.

The plat, in one sheet, incorporating the field notes of the dependent resurvey of a portion of the east boundary, a portion of the subdivisional lines, and the 1875 meanders of Grays Lake in section 12, and the subdivision of section 12, and a metes-and-bounds survey in section 12, Township 5 South, Range 42 East, Boise Meridian, Idaho, Group Number 1461, accepted June 01, 2023.

The plat, in one sheet, incorporating the field notes of the dependent resurvey of a portion of the west boundary, a portion of the subdivisional lines, and the 1885 meanders of Grays Lake in section 7, and the subdivision of section 7, and certain metes-and-bounds surveys in section 7, Township 5 South, Range 43 East, Boise Meridian, Idaho. Group Number 1461, accepted June 01, 2023.

The plat, in one sheet, incorporating the field notes of the dependent resurvey of portions of the east boundary, subdivisional lines, boundaries of certain mineral surveys in sections 11, 12, 13, and 14, and Tract Number 38, and the subdivision of sections 11 and 12, and certain metes-and-bounds surveys in section 11, Township 48 North, Range 3 East, Boise Meridian, Idaho, Group Number 1468, accepted June 22, 2023.

The plat, in one sheet, incorporating the field notes of the dependent resurvey of portions of the south boundary, subdivisional lines, and the boundaries of certain mineral surveys, and the subdivision of section 35, Township 48 North, Range 2 East, Boise Meridian, Idaho, Group Number 1475, accepted July 06, 2023.

The plat, in one sheet, incorporating the field notes of the dependent resurvey of portions of the south and west boundaries, subdivisional lines, and the subdivision of section 31, Township 3 South, Range 10 East, Boise Meridian, Idaho, Group No. 1575, accepted July 13, 2023.

The plat, in one sheet, incorporating the field notes of the dependent resurvey of a portion of the subdivisional lines, mineral survey No. 2197, the subdivision of section 33, and certain metes-and-bounds surveys in section 33, Township 29 North, Range 8 East, Boise Meridian, Idaho, Group No. 1504, accepted July 20, 2023.

A person or party who wishes to protest one or more plats of survey identified above must file a written notice of protest with the Chief Cadastral Surveyor for Idaho, BLM within 30 calendar days from the date of this publication at the address listed in the ADDRESSES section of this notice. The protest must identify the plat(s) of survey that the person or party wishes to protest and contain all reasons and evidence in support of the protest. A protest is considered filed on the date it is received by the Chief Cadastral Surveyor for Idaho during regular business hours; if received after regular business hours, a protest will be considered filed the next business day.

Before including your address, phone number, email address, or other personal identifying information in a protest, you should be aware that the documents you submit, including your personal identifying information, may be made publicly available in their entirety at any time. While you can ask us to withhold your personal identifying information from public review, we cannot guarantee that we will be able to do so.

(Authority: 43 U.S.C. Chapter 3.)

Daniel S. Young,
Acting Chief Cadastral Surveyor for Idaho.

[FR Doc. 2023-17661 Filed 8-16-23; 8:45 am]

BILLING CODE 4331-19-P